ENVIRONMENTAL PROTECTION AGENCY

[FRL-7548-2]

San Fernando Valley—Glendale Operable Units Superfund Site, Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (“CERCLA”), 42 U.S.C. 9601 et seq., notice is hereby given that a proposed Prospective Purchaser Agreement associated with the San Fernando Valley Crystal Springs (Area 2) Superfund Site—Glendale Operable Units was executed by the United States Environmental Protection Agency (“EPA”) on June 24, 2003. The proposed Prospective Purchaser Agreement amends a prior Prospective Purchaser Agreement executed by EPA on February 12, 2001. The proposed Prospective Purchaser Agreement would resolve certain potential claims of the United States under sections 106 and 107 of CERCLA, 42 U.S.C. 9606, 9607, against Home Depot U.S.A., Inc. (the “Purchaser”). The Purchaser plans to acquire two contiguous parcels located within the Glendale Operable Units, 1200 South Flower Street, Burbank, California and 801 Allen Avenue, Glendale, California for the construction of a Home Depot U.S.A. retail operation. The proposed settlement would require the Purchaser to pay EPA a one-time payment of $10,000.

For thirty (30) calendar days following the date of publication of this notice, EPA will receive written comments relating to the proposed settlement. EPA's response to any comments received will be available for public inspection at the U.S. Environmental Protection Agency, 75 Hawthorne Street, San Francisco, CA 94105.

DATES: Comments must be submitted on or before September 25, 2003.

Availability: The proposed Prospective Purchaser Agreement and additional background documentation relating to the settlement are available for public inspection at the U.S. Environmental Protection Agency, 75 Hawthorne Street, San Francisco, CA 94105. A copy of the proposed settlement may be obtained from Marie M. Rongone, Senior Counsel (ORC-3), Office of Regional Counsel, U.S. EPA Region IX, 75 Hawthorne Street, San Francisco, CA 94105. Comments should reference “First Amended Home Depot U.S.A. Prospective Purchaser Agreement, San Fernando Valley Superfund Site, Glendale Operable Unit,” and “Docket No. 2001-06” and should be addressed to Marie M. Rongone at the above address.

FOR FURTHER INFORMATION CONTACT: Marie M. Rongone, Senior Counsel (ORC-3), Office of Regional Counsel, U.S. EPA Region IX, 75 Hawthorne Street, San Francisco, CA 94105; e-mail: rongone.marie@epa.gov; Telephone: (415) 972-3891, Facsimile: (415) 947-3570 or 3571.

Dated: August 12, 2003.
E. Adams,
Acting Director, Superfund Division, EPA, Region IX.

[FR Doc. 03-21782 Filed 8-25-03; 8:45 am]

BILLING CODE 6560-50-P